DEPARTMENT OF AGRICULTURE

Foreign Agricultural Service

Local and Regional Food Aid Procurement Projects

AGENCY: Foreign Agricultural Service, USDA.

ACTION: Notice.

SUMMARY: The Foreign Agricultural Service (FAS), on behalf of the Commodity Credit Corporation (CCC), has closed the application period for field-based projects under the USDA Local and Regional Food Aid Procurement Pilot Project (USDA LRP Project). All available funding for field-based projects has been allocated.

DATES: Effective March 4, 2011.

FOR FURTHER INFORMATION CONTACT: Jamie Fisher, Chief, Local and Regional Procurement, Food Assistance Division, Foreign Agricultural Service, U.S. Department of Agriculture, Stop 1034, 1400 Independence Avenue, SW., Washington, DC 20250-1034; or by phone (202) 720-5620; or by fax: (202) 690-0251; or by e-mail: LRP@fas.usda.gov.

SUPPLEMENTARY INFORMATION: Section 3206 of the Food, Conservation, and Energy Act of 2008 (7 U.S.C. 1726c) directed the Secretary of Agriculture (the Secretary) to implement a local and regional food aid procurement pilot project in developing countries. The Secretary was directed to use CCC funds in the following amounts to carry out the pilot project:

• $5 million for fiscal year 2009;

• $25 million for fiscal year 2010;

• $25 million for fiscal year 2011; and

• $5 million for fiscal year 2012.

The USDA LRP Project Interim Guidelines provide that FAS will accept applications for funding until June 1, 2011 unless FAS publishes a notice in the Federal Register to close or extend the application period. FAS has allocated all available funding for field-based projects, and therefore, by this notice, is closing the application period.

Dated: February 11, 2011.
John D. Brewer,
Administrator, Foreign Agricultural Service, and Vice President, Commodity Credit Corporation.

[FR Doc. 2011-4872 Filed 3-3-11; 8:45 am]

BILLING CODE 3410-10-P